DEPARTMENT OF COMMERCE

Foreign-Trade Zones Board

[Order No. 1812]

Reorganization and Expansion of Foreign-Trade Zone 272 Under Alternative Site Framework; Counties of Lehigh and Northampton, PA

Pursuant to its authority under the Foreign-Trade Zones Act of June 18, 1934, as amended (19 U.S.C. 81a-81u), the Foreign-Trade Zones Board (the Board) adopts the following Order:

Whereas, the Board adopted the alternative site framework (ASF) (74 FR 1170, 01/12/2009; correction 74 FR 3987, 01/22/2009; 75 FR 71069-71070, 11/22/2010) as an option for the establishment or reorganization of general-purpose zones;

Whereas, the Lehigh Valley Economic Development Corporation, grantee of Foreign-Trade Zone 272, submitted an application to the Board (FTZ Docket 64-2011, filed 10/13/2011) for authority to reorganize and expand under the ASF with a service area of Lehigh and Northampton Counties, Pennsylvania, within and adjacent to the Lehigh Valley U.S. Customs and Border Protection port of entry, FTZ 272's existing Sites 1, 5, 6, 7, 8 and 9 would be categorized as magnet sites, existing Sites 2, 3 and 4 would be removed, and the grantee proposes one initial usage-driven site (Site 10);

Whereas, notice inviting public comment was given in the Federal Register (76 FR 65171-65172, 10/20/2011) and the application has been processed pursuant to the FTZ Act and the Board's regulations; and,

Whereas, the Board adopts the findings and recommendations of the examiner's report, and finds that the requirements of the FTZ Act and the Board's regulations are satisfied, and that the proposal is in the public interest;

Now, therefore, the Board hereby orders:

The application to reorganize and expand FTZ 272 under the alternative site framework is approved, subject to the FTZ Act and the Board's regulations, including Section 400.28, to the Board's standard 2,000-acre activation limit for the overall general-purpose zone project, to a five-year ASF sunset provision for magnet sites that would terminate authority for Sites 5 through 9 if not activated by January 31, 2017, and to a three-year ASF sunset provision for usage-driven sites that would terminate authority for Site 10 if no foreign-status merchandise is admitted for a bona fide customs purpose by January 31, 2015.

Signed at Washington, DC, this 31 day of January 2012.
Paul Piquado,
Assistant Secretary of Commerce for Import Administration, Alternate Chairman, Foreign-Trade Zones Board.
Andrew McGilvray,
Executive Secretary.

[FR Doc. 2012-2781 Filed 2-6-12; 8:45 am]

BILLING CODE P